ENVIRONMENTAL PROTECTION AGENCY

[EPA-HQ-OPPT-2020-0077; FRL-10013-56]

Certain New Chemicals; Receipt and Status Information for July 2020

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 07/01/2020 to 07/31/2020.

DATES: Comments identified by the specific case number provided in this document must be received on or before September 25, 2020.

ADDRESSES: Submit your comments, identified by docket identification (ID) number EPA-HQ-OPPT-2020-0077, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 07/01/2020 to 07/31/2020. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory please go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g. P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 07/01/2020 to 07/31/2020
Case No. | Version | Received date | Manufacturer | Use | Chemical substance
P-16-0345A | 5 | 07/13/2020 | CBI | (G) Processing aid | (G) Acrylamide, polymer with methacrylic acid derivatives.
P-16-0460A | 5 | 08/21/2018 | SEFA Group, Inc | (S) Process aid for vulcanized rubber | (G) Silane-treated aluminosilicate.
P-16-0461A | 5 | 08/21/2018 | SEFA Group, Inc | (S) Process aid for vulcanized rubber | (G) Silane-treated aluminosilicate.
P-16-0462A | 5 | 08/21/2018 | SEFA Group, Inc | (S) Process aid for vulcanized rubber | (G) Silane-treated aluminosilicate.
P-16-0463A | 5 | 08/21/2018 | SEFA Group, Inc | (S) Process aid for vulcanized rubber | (G) Silane-treated aluminosilicate.
P-16-0464A | 5 | 08/21/2018 | SEFA Group, Inc | (S) Process aid for vulcanized rubber | (G) Silane-treated aluminosilicate.
P-16-0512A | 4 | 06/30/2020 | CBI | (S) Component of a UV curable printing inks | (G) Fatty acid dimers, polymer with acrylic acid and pentaerythritol reaction products.
P-17-0115A | 4 | 07/24/2020 | CBI | (S) An adhesion promoter for coating formulations | (G) Aminoalkyl alkoxysilane.
P-17-0267A | 7 | 08/22/2018 | Honeywell International (123312) | (G) solvent for dispersive use | (S) (1) (Z)-1-chloro-3,3,3-trifluoro-1-propene.
P-17-0267A | 9 | 09/14/2018 | Honeywell International (123312) | (G) solvent for dispersive use | (S) (1) (Z)-1-chloro-3,3,3-trifluoro-1-propene.
P-17-0267A | 10 | 09/25/2018 | Honeywell International (123312) | (G) solvent for dispersive use | (S) (1) (Z)-1-chloro-3,3,3-trifluoro-1-propene.
P-17-0288A | 8 | 11/05/2018 | SK Chemicals America, Inc | (G) All-purpose packaging | (G) Carbomonocyclicdicarboxylic acid, polymer with cycloalkane(C=5~8) alkanol, alkanediol(C=1~5), 4-(hydroxymethyl)cyclohexyl]methyl 4-(hydroxymethyl)cyclohexanecarboxylate, substitutedalkanol(C=1~5) and 4,4′-[oxybis(methylene)]bis [cyclohexanemethanol];(M).
P-17-0329A | 5 | 06/22/2018 | CBI | (G) Intermediate used in synthesis | (G) Substituted haloaromatic trihaloalkyl-aromatic alkanone.
P-17-0329A | 7 | 07/12/2018 | CBI | (G) Intermediate used in synthesis | (G) Substituted haloaromatic trihaloalkyl-aromatic alkanone.
P-17-0398A | 9 | 11/02/2018 | Nexus Fuels | (G) Wax-Component of complex formulations for blending | (G) Branched Cyclic and Linear Hydrocarbons from Plastic Depolymerization.
P-17-0399A | 9 | 11/02/2018 | Nexus Fuels | (G) stock use | (G) Alkane, Alkene, Styrenic Compounds Derived from Plastic Depolymerization.
P-18-0001A | 9 | 11/02/2018 | Nexus Fuels | (G) Additive | (G) Carbon compound derived from plastic depolymerization.
P-18-0013A | 4 | 07/01/2020 | Shin-Etsu Microsi | (G) Microlithography for electronic device manufacturing | (G) Substituted-triphenylsulfonium, inner salt.
P-18-0042A | 10 | 08/20/2018 | Myriant Corporation | (G) Industrial Coating | (S) 2,5-Furandione, polymer with 2-ethyl-2-(hydroxymethyl)-1,3-propanediol, 3a,4,5,6,7,7a-hexahydro-4,7-methano-1H-inden-5(or 6)-yl ester, ester with 2,3-dihydroxypropyl neodecanoate, polymer with 5-isocyanato-1-(isocyanatomethyl)-1,3,3-trimethylcyclohexane, 2-hydroxyethyl acrylate- and 2-hydroxyethyl methacrylate-blocked.
P-18-0042A | 11 | 09/17/2018 | Myriant Corporation | (G) Industrial Coating | (S) 2,5-Furandione, polymer with 2-ethyl-2-(hydroxymethyl)-1,3-propanediol, 3a,4,5,6,7,7a-hexahydro-4,7-methano-1H-inden-5(or 6)-yl ester, ester with 2,3-dihydroxypropyl neodecanoate, polymer with 5-isocyanato-1-(isocyanatomethyl)-1,3,3-trimethylcyclohexane, 2-hydroxyethyl acrylate- and 2-hydroxyethyl methacrylate-blocked.
P-18-0042A | 12 | 09/24/2018 | Myriant Corporation | (G) Industrial Coating | (S) 2,5-Furandione, polymer with 2-ethyl-2-(hydroxymethyl)-1,3-propanediol, 3a,4,5,6,7,7a-hexahydro-4,7-methano-1H-inden-5(or 6)-yl ester, ester with 2,3-dihydroxypropyl neodecanoate, polymer with 5-isocyanato-1-(isocyanatomethyl)-1,3,3-trimethylcyclohexane, 2-hydroxyethyl acrylate- and 2-hydroxyethyl methacrylate-blocked.
P-18-0104A | 9 | 07/20/2020 | CBI | (S) Halogen free flame retardant in thermoplastic polymers | (G) Acrylic acid, reaction products with pentaerythritol, polymerized.
P-18-0110A | 8 | 09/10/2018 | CBI | (G) Open dispersive use. Component in liquid paint coating | (G) Formaldehyde, polymer with arylylpolyamine, 2-(chloromethyl) oxirane and phenol.
P-18-0111A | 8 | 09/10/2018 | CBI | (G) Component in liquid paint coating | (G) Phenol, polymer with formaldehyde, glycidyl ether, polymers with arylylpolyamine.
P-18-0143A | 8 | 07/10/2020 | Huntsman international, LLC | (G) Anti-corrosive primer for outdoor industrial applications | (G) Fatty acids, tall-oil polymers with aminoalkyl, dialkyl alkane diamine, polyalkylene polyamine alkanepolyamine fraction, and tris-[(alkylamino) alkyl] phenol.
P-18-0144A | 7 | 07/10/2020 | CBI | (G) Anti-corrosive primer for outdoor industrial applications | (G) Formaldehyde, polymer with an alkane diamine and phenol.
P-18-0202A | 2 | 06/14/2018 | Hexion, Inc | (G) Tackifier, Rubber additive | (G) Trialkyl alkanal, polymer with phenol.
P-18-0202A | 6 | 11/30/2018 | Hexion, Inc | (G) Tackifier, Rubber additive | (G) Trialkyl alkanal, polymer with phenol.
P-18-0203A | 2 | 06/14/2018 | Hexion, Inc | (G) Rubber, Tackifier additives | (G) Trialkyl alkanal, polymer with alkylalkanal and phenol.
P-18-0203A | 6 | 11/30/2018 | Hexion, Inc | (G) Rubber, Tackifier additives | (G) Trialkyl alkanal, polymer with alkylalkanal and phenol.
P-18-0204A | 2 | 06/14/2018 | Hexion, Inc | (G) Rubber, Tackifier additive | (G) Alkyl alkanal, polymer with phenol.
P-18-0204A | 6 | 11/30/2018 | Hexion, Inc | (G) Rubber, Tackifier additive | (G) Alkyl alkanal, polymer with phenol.
P-18-0205A | 2 | 06/14/2018 | Hexion, Inc | (G) Rubber, Tackifier additive | (G) Alkyl alkanal, polymer with formaldehyde and phenol.
P-18-0205A | 6 | 11/30/2018 | Hexion, Inc | (G) Rubber, Tackifier additive | (G) Alkyl alkanal, polymer with formaldehyde and phenol.
P-18-0206A | 2 | 06/14/2018 | Hexion, Inc | (G) Rubber, Tackifier additive | (G) Alkanal, polymer with phenol.
P-18-0206A | 6 | 11/30/2018 | Hexion, Inc | (G) Rubber, Tackifier additive | (G) Alkanal, polymer with phenol.
P-18-0221A | 2 | 07/22/2020 | Georgia-Pacific Chemicals, LLC | (S) binder for wood panels | (G) Polyglycerol reaction product with acid anhydride, etherified.
P-18-0236A | 2 | 09/26/2018 | The Sherwin Williams Company | (G) Paint additive | (G) Metal, alkenoic acid-alkyl alkenoate-alkyl substituted alkenoate polymer carbopolycycle complexes.
P-18-0239A | 4 | 07/06/2020 | CBI | (G) Reactant in coating | (G) N-alkyl propanamide.
P-18-0240A | 4 | 07/06/2020 | CBI | (G) Reactant in coating | (G) N-alkyl acetamide.
P-18-0281A | 4 | 07/09/2020 | CBI | (G) Electrolyte additive | (G) Cyclic sulfate.
P-18-0282A | 10 | 01/25/2019 | Ashland, Inc | (G) Adhesive | (G) fatty acid ester, polyether, diisocyanate polymer.
P-18-0303A | 4 | 07/22/2020 | CBI | (G) UV curable oligomer | (G) 2-Propenoic acid, polymer with aliphatic cyclic epoxide.
P-18-0309A | 8 | 11/01/2018 | HighLand Logistics, LLC | (G) Latex applied to textiles for anti-odor and anti-microbial applications | (G) alkanedioic acid, 2-alkylene-, polymer with polyhaloaromatic arylate, sodium salt, hydroxyalkyl alkanoate, alkanoic acid, alkenyl-hydroxypoly(oxy-1,2-ethanediyl-alkenyloxymethylalkyoxy polyoxy-1,2-ethandiyl.
P-18-0327A | 7 | 07/09/2020 | CBI | (G) Filler for non-dispersive resins | (G) Mixed Metal Oxide.
P-18-0327A | 8 | 07/09/2020 | CBI | (G) Filler for non-dispersive resins | (G) Mixed Metal Oxide.
P-18-0327A | 9 | 07/16/2020 | CBI | (G) Filler for non-dispersive resins | (G) Mixed Metal Oxide.
P-18-0355A | 3 | 07/29/2020 | CBI | (G) paint | (G) Alkanediol, substituted alkyl, polymer with carbomonocyle, alkanedioate substituted carbomonocycle, ester with substituted alkanoate.
P-18-0358A | 2 | 10/18/2018 | Shikoku International Corporation | (S) Used as a curing agent within carbon fiber reinforced plastics (CFRP) prepreg to expedite the hardening process during the final thermosetting operation. Industrial adhesives for electronics to expedite the hardening process during the final thermosetting operation. | (S) 1H-Imidazole-1-propanenitrile,2-ethyl-ar-methyl-.
P-18-0379A | 3 | 07/08/2020 | CBI | (G) Hardener for waterborne epoxy system | (G) Cashew nutshell liquid polymer with Epichlorohydrin, formaldehyde, phenol, amines and glycol.
P-18-0398A | 5 | 07/17/2020 | Evonik Corporation | (S) Intermediate | (G) Polyalkylpolyalkylenepolyamine.
P-18-0400A | 8 | 07/28/2020 | CBI | (G) open, non-dispersive use, additive for textile industry | (G) Rosin adduct ester, polymer with polyols, potassium salt.
P-19-0038A | 5 | 06/30/2020 | Allan Chemical Corporation | (S) Ink carrier for the ceramic industries | (S) Fatty acids, coco, iso-Bu esters.
P-19-0141A | 6 | 07/08/2020 | CBI | (S) For use in metal treatment coatings for lubrication and corrosion protection | (S) Phosphoric Acid, manganese(2+) salt (2:3);(S) Phosphoric acid, manganese(2+) salt (4:5).
P-19-0188A | 2 | 07/24/2020 | Archroma U.S., Inc | (S) Wetting agent and lubricant during textile processing | (G) Octadecanamide, N,N-dialkyl, salts.
P-20-0011A | 7 | 07/16/2020 | CBI | (G) Light stabilizer | (G) Tetraoxaspiro[5.5]alkyl-3,9-diylbis(alkyl-2,1-diyl) bis(2-cyano-3-(3,4-dimethoxyphenyl)acrylate).
P-20-0058A | 3 | 07/23/2020 | CBI | (G) Additive for automatic dishwashing, hard surface cleaner | (G) Polysaccharide, polymer with unsaturated carboxylic acid and methacryloxyethyltrimethyl ammonium chloride, sodium salt, acid salt initiated.
P-20-0061A | 2 | 07/07/2020 | Allnex USA Inc | (S) Coating resin crosslinking agent | (G) Formaldehyde, polymer with alkylphenols, alkyl ether.
P-20-0062A | 3 | 07/09/2020 | Inabata America Corporation | (S) Use as an electrically conductive material, additive in field emission applications, batteries, energy storage, and electrode applications to improve physical or mechanical properties, weight reduction, heat generation material, heat dissipation material. | (S) Multi-walled carbon nanotubes; closed; 4.4-12.8 nm diameter; bundle length 10.6-211.1 um; Grade: Jenotube 6 (Substance-1).
P-20-0063A | 3 | 07/09/2020 | Inabata America Corporation | (S) Use as an electrically conductive material, an additive in field emission applications, batteries, energy storage, and electrode applications, to improve physical or mechanical properties, for weight reduction, a heat generation material, heat dissipation material. | (S) Multi-walled carbon nanotubes; closed; 5.1-11.6 nm diameter; bundle length 1.9-552.0 um; Grade: Jenotube 8 (Substance-2).
P-20-0064A | 3 | 07/09/2020 | Inabata America Corporation | (S) Use as an electrically conductive, in field emission applications, in batteries, energy storage, and electrode applications, to improve physical or mechanical properties, for weight reduction, a heat generation material, heat dissipation material. | (S) Multi-walled carbon nanotubes; closed; 7.9-14.2 nm diameter; bundle length 9.4-106.4 um; Grade: Jenotube 10 (Substance-3).
P-20-0065A | 3 | 07/09/2020 | Inabata America Corporation | (S) Use as an electrically conductive material, an additive in field emission applications, an additive in batteries, energy storage, and electrode applications, an additive to improve physical or mechanical properties, an additive for weight reduction, heat generation and dissipation material. | (S) Multi-walled carbon nanotubes; closed; 17.0-34.7 nm diameter; globular shape; Grade: Jenotube 20 (Substance-4).
P-20-0068A | 3 | 07/02/2020 | CBI | (G) Perfume | (S) 1,3-Propanediol, 2,2-dimethyl-, 1,3-diacetate.
P-20-0071A | 7 | 06/29/2020 | CBI | (G) Colorant | (G) Salt of 2-Naphthalenesulfonic acid, hydroxy [(methoxy-methyl-4-sulfophenyl)diazenyl].
P-20-0077A | 3 | 06/29/2020 | Aalborz Chemical LLC | (S) UV Curing Agent for use in Inks and Coatings | (G) 1-(dialkyl-diphenylene alkane)-2-alkyl-2-hydrooxazine-1-alkylketone.
P-20-0090A | 3 | 07/27/2020 | CLARIANT Corporation | (S) Surfactant for use in dishwashing detergents | (G) Poly(oxy-1,2-ethanediyl), .alpha.-(alkyl-hydroxyalkyl)-.omega.-hydroxy-, .omega.-alkyl ethers.
P-20-0094A | 2 | 07/23/2020 | CBI | (S) Formulation component in UV/EB coatings, inks and 3D printing/stereolithography/additive, adhesive manufacturing | (G) Alkanedioic acid, polymer with tri-alkyl-isocyanatocarbomonocycle, dialkylglycols, ester with 2,3-dihydroxypropyl alkyl ester, 2-hydroxyethyl methacrylate-blocked.
P-20-0096A | 3 | 07/15/2020 | Solenis LLC | (G) Use in papermaking process | (G) Unsaturated dicarboxylic acid polymer with 2-(dialkylamino)alkyl-alkyl-alkanoate, N, N-dialkyl-alkene amide, 2-propenamide and salt of alkyl-substituted alkene sulfonate.
P-20-0102A | 2 | 07/24/2020 | Novihum Technologies, Inc | (S) Fertilizer/Soil amendment | (S) Chemical Abstract (CA) index name: Coal, brown, ammoxidized.
P-20-0103A | 6 | 07/24/2020 | Sachem Inc | (G) On site intermediate for the production of finished goods | (G) Cycloalphatic amine formate.
P-20-0104A | 5 | 07/13/2020 | CBI | (G) Additive | (G) Alkenoic acid, polymer with (alkyl alkenyl) polyether.
P-20-0106A | 3 | 06/29/2020 | CBI | (G) Polymer reactant | (G) 3-(2-Alkoxyalkyl)-2-heterocycle.
P-20-0107A | 3 | 07/23/2020 | CBI | (G) Crosslinking polymer | (G) Carbimide, polyalkylenepolyarylene ester, polymer with 1,2-alkanediol, 2-alkoxyalkyl methacrylate- and 3-(2-alkoxyalkyl)-2-heterocycle-blocked.
P-20-0122 | 4 | 07/01/2020 | Shin-etsu Microsi | (G) Microlithography for electronic device manufacturing | (G) Heterocyclic onium compound with 1-substituted-alkyl 2,2,2-trisubstitutedalkyl 2-methyl-2-propenoate (1:1), polymer with acenaphthylene, 4-ethenyl-a,a-dimethylbenzenemethanol and 4-ethenylphenyl acetate, hydrolyzed.
P-20-0127 | 3 | 07/09/2020 | Kuraray America, Inc | (S) Industrial Solvent | (S) 2H-Pyran, tetrahydro-4-methyl-.
P-20-0128 | 1 | 06/29/2020 | CBI | (G) Additive in Household consumer products | (S) 2-Oxiraneacetic acid, 3-ethyl-, 1-(3,3 dimethylcyclohexyl)ethyl ester.
P-20-0129 | 3 | 07/09/2020 | CBI | (G) Surfactant | (G) Alkyl dibetaine.
P-20-0130 | 2 | 07/09/2020 | CBI | (G) component of industrial coating | (G) Organic acid ester, polymer with aliphatic diols and 1,1′-methylenebis[4-isocyanatobenzene].
P-20-0131 | 1 | 07/02/2020 | Ashland Inc | (S) Laminating adhesive to make flexible packaging | (G) Alkanedioic acid, polymer with alkanediol, alpha-hydro-omega-alkoxypoly(oxy[alkyl-1,2-alkanediyl]), 1,1-alkylenebis [isocyanatobenzene] and [(1-alkyl-1,2-alkanediyl)bis(oxy)]bis[alkanol].
P-20-0132 | 1 | 07/02/2020 | Designer Molecules, Inc | (G) Adhesive component | (S) 1H-Pyrrole-2,5-dione, 3-methyl-, 1,1′-C36-alkylenebis-.
P-20-0133 | 4 | 07/14/2020 | Huntsman International LLC | (G) component of foam | (G) Fatty acid oil polymer with aliphatic polyols and aromatic diacid.
P-20-0134 | 4 | 07/14/2020 | Huntsman International LLC | (G) component of foam | (G) Aromatic acid, polymer with aliphatic diol and aromatic diacid.
P-20-0135 | 4 | 07/14/2020 | Huntsman International LLC | (G) component in foam insulation | (G) Fatty acid polymer with polyols, aliphatic alcohol and aromatic diacid.
P-20-0136 | 1 | 07/09/2020 | Clariant Corporation | (S) Surface treatment compound for textiles. | (G) Arylcarboxylic acid, alkyl ester, polymer with alkanediol, ester with methyloxirane polymer with oxirane alkyl ether.
P-20-0137 | 2 | 07/17/2020 | Agrimetis | (S) Intermediate | (S) Butanoic acid, 2-amino-4-(hydroxymethylphosphinyl)-, ammonium salt (1:1).
P-20-0139 | 1 | 07/27/2020 | Shin-etsu Microsi | (G) Contained use for microlithography for electronic device manufacturing. | (G) Sulfonium, triphenyl-, 1,2-substituted-alkyltricycloalkyl-1-carboxylate (1:1).
P-20-0140 | 1 | 07/27/2020 | Shin-etsu Microsi | (S) Photoacid generator for chemically amplified photoresist | (G) N-Substituted-beta-alanine, heterosubstituted-alkyl ester, ion(1-), triphenylsulfonium (1:1).
P-20-0141 | 1 | 07/28/2020 | Shin-etsu Microsi | (G) Contained use for microlithography for electronic device manufacturing | (G) Sulfonium, [4-(1,1-dimethylethyl) phenyl]diphenyl-, salt with heterosubstituted-alkyl tricycloalkane-carboxylate (1:1).
P-20-0142 | 1 | 07/28/2020 | Shin-etsu Microsi | (G) Contained use for microlithography for electronic device manufacturing | (G) Dibenzothiophenium, 5-phenyl-, salt with 2,2-diheterosubstituted-2-sulfoethyl substituted-heterotricycloalkane-carboxylate (1:1).
P-20-0143 | 1 | 07/28/2020 | CBI | (S) Binder for Thermoplastic Coatings, Binder or Ink/Adhesive | (S) Cyclohexanemethanamine, 5-amino-1,3,3-trimethyl-, polymer with alpha-hydro-omega-hydroxypoly(oxy-1,4-butanediyl), 5-isocyanato-1-(isocyanatomethyl)-1,3,3-trimethylcyclohexane and 1,1-methylenebis[4-isocyanatobenzene].
P-20-0145 | 1 | 07/29/2020 | Shin-etsu Microsi | (G) Contained use for microlithography for electronic device manufacturing | (G) Substituted heterocyclic onium compound, salt with heteropolysubstitutedalkyl substitutedtricycloalkane carboxylate (1:1), polymer with disubstitutedaromatic compound and 1-methylcyclopentyl 2-methyl-2-propenoate, di-Me 2,2′-(1,2-diazenediyl)bis[2-methylpropanoate]-initiated.
P-20-0147 | 1 | 07/30/2020 | Shin-etsu Microsi | (G) Contained use for microlithography for electronic device manufacturing | (G) Substituted-2H-thiopyrylium, salt with heterosubstituted-alkyl tricycloalkane-carboxylate (1:1).
SN-18-0001A | 8 | 05/30/2018 | CBI | (S) Solution based (<1% concentration) Oxidation Catalyst for the Composite Market (Fiber glass: Insulation, Filtration media, Reinforcements, Optical Fibers), wood stain (Oxidation Catalyst for Composite industry (e.g., for application to gelcoat-type finished goods such as boats, bowling balls, shower stalls and bathtubs, etc.) (G) SNUN chemical will be used as catalysts in composite matrix | (G) Alkyl-dihydroxy-methyl pyridin-carboxylate Iron chloride complex.
SN-18-0001A | 15 | 07/24/2018 | CBI | (S) Solution based (<1% concentration) Oxidation Catalyst for the Composite Market (Fiber glass: Insulation, Filtration media, Reinforcements, Optical Fibers), wood stain (Oxidation Catalyst for Composite industry (e.g., for application to gelcoat-type finished goods such as boats, bowling balls, shower stalls and bathtubs, etc.) (G) SNUN chemical will be used as catalysts in composite matrix | (G) Alkyl-dihydroxy-methyl pyridin-carboxylate Iron chloride complex.
SN-18-0001A | 17 | 08/02/2018 | CBI | (S) Solution based (<1% concentration) Oxidation Catalyst for the Composite Market (Fiber glass: Insulation, Filtration media, Reinforcements, Optical Fibers), wood stain (Oxidation Catalyst for Composite industry (e.g., for application to gelcoat-type finished goods such as boats, bowling balls, shower stalls and bathtubs, etc (G) SNUN chemical will be used as a catalyst in composite matrix | (S) Iron(1+), chloro[rel-1,5-dimethyl (1R,2S,4R,5S)-9,9-dihydroxy-3-methyl-2,4-di(2-pyridinyl-.kappa.N)-7-[(2-pyridinyl-.kappa.N)methyl]-3,7-diazabicyclo [3.3.1]nonane-1,5-dicarboxylate-.kappa.N3,.kappa.N7]-, chloride (1:1), (OC-6-63)-.
SN-18-0001A | 18 | 08/23/2018 | CBI | (S) Solution based (<1% concentration) Oxidation Catalyst for the Composite Market (Fiber glass: Insulation, Filtration media, Reinforcements, Optical Fibers), wood stain (Oxidation Catalyst for Composite industry (e.g., for application to gelcoat-type finished goods such as boats, bowling balls, shower stalls and bathtubs, etc.) | (S) Iron(1+), chloro[rel-1,5-dimethyl (1R,2S,4R,5S)-9,9-dihydroxy-3-methyl-2,4-di(2-pyridinyl-.kappa.N)-7-[(2-pyridinyl-.kappa.N)methyl]-3,7-diazabicyclo [3.3.1]nonane-1,5-dicarboxylate-.kappa.N3,.kappa.N7]-, chloride (1:1), (OC-6-63)-.
SN-18-0001A | 20 | 10/16/2018 | CBI | (S) Proposed New Generic Use name: Oxidation Catalyst for Composites New Proposed Use Description: (Solution) Oxidation Catalyst for the Composite Market (Fiber glass: Insulation, Filtration media, Reinforcements, Optical Fibers), (Oxidation Catalyst for Composite industry (e.g., for application to gelcoat-type finished goods such as boats, bowling balls, shower stalls and bathtubs, etc.) | (S) Iron(1+), chloro[rel-1,5-dimethyl (1R,2S,4R,5S)-9,9-dihydroxy-3-methyl-2,4-di(2-pyridinyl-.kappa.N)-7-[(2-pyridinyl-.kappa.N)methyl]-3,7-diazabicyclo [3.3.1]nonane-1,5-dicarboxylate-.kappa.N3,.kappa.N7]-, chloride (1:1), (OC-6-63)-.
SN-20-0003A | 7 | 07/01/2020 | CBI | (S) An anionic fluorosurfactant for main use (>98%) in firefighting foam concentrates such as AFFF (Aqueous Film Forming Foam) and AR-AFFF (Alcohol Resistant Aqueous Film Forming Foam), minor use (<2%) in coatings and ink applications | (S) 1-Propanesulfonic acid, 2-methyl-2-[[1-oxo-3-[(3,3,4,4,5,5,6,6,7,7,8,8,8-tridecafluorooctyl)thio]propyl]amino]-, sodium salt (1:1).
SN-20-0003A | 8 | 07/07/2020 | CBI | (S) An anionic fluorosurfactant for main use (>98%) in firefighting foam concentrates such as AFFF (Aqueous Film Forming Foam) and AR-AFFF (Alcohol Resistant Aqueous Film Forming Foam), for very minor use (<2%) in coatings and ink applications | (S) 1-Propanesulfonic acid, 2-methyl-2-[[1-oxo-3-[(3,3,4,4,5,5,6,6,7,7,8,8,8-tridecafluorooctyl)thio]propyl]amino]-, sodium salt (1:1).
SN-20-0005 | 2 | 07/14/2020 | Dover Chemical Corporation | (S) Lubricant in metal-working fluids, Drilling mud additive, Plasticizer/flame retardant in textiles, Flame retardant in rubber compounds, Lubricants in grease and engine oils, in polymers | (S) Alkanes, C21-34-branched and linear, chloro.
SN-20-0007 | 1 | 07/21/2020 | CBI | (S) A component of UV Curable Coatings and Printing Inks | (S) 2-Propenoic acid, 1,1′-(3-methyl-1,5-pentanediyl) ester.
* The term `Approved' indicates that a submission has passed a quick initial screen ensuring all required information and documents have been provided with the submission prior to the start of the 90-day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 07/01/2020 to 07/31/2020
Case No. | Received date | Commencement date | If amendment, type of amendment | Chemical substance
P-15-0633 | 06/30/2020 | 06/25/2020 | N | (S) 1(2h)-naphthalenone,4-ethyloctahydro-8-methyl-.
P-16-0326 | 06/30/2020 | 06/25/2020 | N | (S) Propanoic acid, 2,2-dimethyl-, 1-methyl-2-(1-methylethoxy)-2-oxoethyl ester.
P-16-0548 | 07/09/2020 | 07/09/2020 | N | (G) Triarylsulfonium salt.
P-17-0195 | 07/20/2020 | 06/25/2020 | N | (G) 1,3-propanediol,2-methylene-, substituted.
P-18-0009 | 07/29/2020 | 07/28/2020 | N | (G) Phosphonic acid, dimethyl ester, polymer with alkyl diols.
P-18-0260 | 07/23/2020 | 07/21/2020 | N | (G) Fatty acids, polymers with alkanoic acid and substituted carbomonocycle, peroxide-initiated, polymers with alkanoic acid esters and substituted carbomonocycle, ammonium salts.
P-18-0389 | 07/02/2020 | 06/05/2020 | N | (G) Alkenoic acid, alkyl-substituted, epoxy ester, polymer with alkyl alkenoate, alkene, and polylactide.
P-19-0064 | 07/14/2020 | 07/10/2020 | N | (G) 4,4′-methylenebis[2,6-dimethyl phenol] polymer with 2-(chloromethyl)oxirane, 1,4- benzyl diol, 2-methyl-2-propenoic acid, butyl 2-methyl 2-propenoate, ethyl 2-methyl 2- propenoate, and ethyl 2-propenoate, reaction products with 2-(dimethylamino) ethanol.
P-19-0068 | 07/01/2020 | 06/11/2020 | N | (G) 1,4-benzenedicarboxylic acid, polymer with diol, 5-amino-1,3,3-trimethylcyclohexanemethanamine, 1,2-ethanediol and urea.
P-20-0012 | 07/07/2020 | 06/26/2020 | N | (G) Polyol, polymer with alkyl diisocyanate, alkyl substituted heterocycle blocked.
P-20-0041 | 07/01/2020 | 06/22/2020 | N | (S) 1,3-benzenedicarboxylic acid, polymer with 3-methyl-1,5-pentanediol.
P-20-0042 | 07/10/2020 | 06/30/2020 | N | (G) Sulfonium, trisaryl-, 7,7-dialkyl-2-heteropolycyclic -1-alkanesulfonate (1:1)
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 07/01/2020 to 07/31/2020
Case No. | Received date | Type of test information | Chemical substance
L-20-0140 | 07/01/2020 | Dust Explosivity Test Report | (G) Arylfurandione, [bis(trihaloalkyl)alkylidene]bis-, polymer with alkanediamine.
P-14-0712 | 07/07/2020 | Quarterly PCDD/F Test of PMN Substance using EPA Test Method 8290A | (G) Plastics, wastes, pyrolyzed, bulk pyrolysate.
P-14-0712 | 07/13/2020 | Notice of Quarterly PCDD/F Test of PMN Substance using EPA Test Method 8290A | (G) Plastics, wastes, pyrolyzed, bulk pyrolysate.
P-16-0093 | 07/08/2020 | Genetic Toxicity and Chromosomal Aberrations Assay | (S) 2-cyclohexen-1-one, 2-methyl-5-propyl-.
P-16-0543 | 07/27/2020 | Exposure Monitoring Report for June 2020 | (G) Halogenophosphoric acid metal salt.
P-16-0543 | 06/25/2020 | Exposure Monitoring Report for May 2020 | (G) Halogenophosphoric acid metal salt.
P-18-0027 | 07/21/2020 | Algal Toxicity Test (OCSPP Test Guideline 850.4500) and Daphnia Chronic Toxicity Test with 48-Hour Acute Immobilization Test (OCSPP Test Guideline 850.1300) | (G) 2-propenoic acid, 2-alkyl-, 2-(dialkylamino)alkyl ester, polymer with alpha-(2-alkyl-1-oxo-2-alken-1-yl)-omega-methoxypoly(oxy-1,2-alkanediyl).
P-18-0293 | 07/01/2020 | Oxidising Liquids Testing on a Sample of Chemilian L3000 XP | (S) Propanedioic acid, 2-methylene-, 1,3-dihexyl ester.
P-18-0294 | 07/01/2020 | Oxidising Liquids Testing on a Sample of Chemilian H4000 XP | (S) Propanedioic acid, 2-methylene-, 1,3-dicyclohexyl ester.
P-18-0294 | 07/09/2020 | Determination of Physico-Chemical Properties of Chemilian H4000 XP | (S) Propanedioic acid, 2-methylene-, 1,3-dicyclohexyl ester.
P-20-0066 | 07/02/2020 | A Dietary Bioaccumulation Test in Gobiocypris rarus (OECD Test Guideline 305-III) and Daphnia Reproduction Test (OCED Test Guideline 211) | (G) 2-propenoic acid, 2-hydroxyethyl ester, reaction products with dialkyl hydrogen heterosubstituted phosphate and dimethyl phosphonate.

If you are interested in information that is not included in these tables, you may contact EPA's technical information contact or general information contact as described under FOR FURTHER INFORMATION CONTACT to access additional non-CBI information that may be available.

Authority: 15 U.S.C. 2601 et seq.

Dated: August 10, 2020.
Pamela Myrick,
Director, Information Management Division, Office of Pollution Prevention and Toxics.

[FR Doc. 2020-18707 Filed 8-25-20; 8:45 am]

BILLING CODE 6560-50-P